SECURITIES AND EXCHANGE COMMISSION

Sunshine Act Meeting

Federal Register CITATION OF PREVIOUS ANNOUNCEMENT: [76 FR 44057, July 22, 2011].

STATUS: Open meeting.

PLACE: 100 F Street, NE., Washington, DC.

DATE AND TIME OF PREVIOUSLY ANNOUNCED MEETING: Tuesday, July 26, 2011.

CHANGE IN THE MEETING: Cancellation of meeting.

The Open Meeting scheduled for Tuesday, July 26, 2011 at 10:00 a.m. has been cancelled.

For further information please contact the Office of the Secretary at (202) 551-5400.

Dated: July 25, 2011.
Elizabeth M. Murphy,
Secretary.

[FR Doc. 2011-19130 Filed 7-25-11; 4:15 pm]

BILLING CODE 8011-01-P